DEPARTMENT OF ENERGY

Federal Energy Regulatory Commission

[Docket No. RP04-98-002]

Columbia Gulf Transmission Company; Notice of Technical Conference

February 7, 2007.

Take notice that the Commission will convene a technical conference on Thursday, February 15, 2007, from 9 a.m. to 1 p.m., in Room 3M3 at the offices of the Federal Energy Regulatory Commission, 888 First Street NE., Washington DC 20426.

The technical conference will provide a forum to discuss Columbia Gulf Transmission Company's (Columbia Gulf) compliance filing of January 5, 2007 which proposes a 15° F cricondentherm hydrocarbon dewpoint (CHDP) safe harbor and related provisions. The Commission required Columbia Gulf to make this filing and established a technical conference for the filing in an order issued August 1, 2006.¹

¹ Indicated Shippers v. Columbia Gulf Transmission Company, 116 FERC ¶ 61,112 (2006).

FERC conferences are accessible under section 508 of the Rehabilitation Act of 1973. For accessibility accommodations please send an e-mail to accessibility@ferc.gov or call toll free (866) 208-3372 (voice) or 202-502-8659 (TTY), or send a FAX to 202-208-2106 with the required accommodations.

All interested persons are permitted to attend. For further information please contact Keith Pierce at (202) 502-8525 or e-mail keith.pierce@ferc.gov.

Magalie R. Salas,
Secretary.

[FR Doc. E7-2482 Filed 2-13-07; 8:45 am]

BILLING CODE 6717-01-P